DEPARTMENT OF HEALTH AND HUMAN SERVICES

Centers for Disease Control and Prevention

[60Day-06-0612]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Well-Integrated Screening and Evaluation for Women across the Nation (WISEWOMAN) Reporting System—Extension—(0920-0612) National Center for Chronic Disease Prevention and Health Promotion (NCCDPHP), Centers for Disease Control and Prevention (CDC).

Background and Brief Description

In response to the Secretary of Health and Human Services' Continuous Improvement Initiative, the WISEWOMEN program examines ways in which service delivery can be improved for select populations. WISEWOMAN focuses on reducing cardiovascular disease risk factors among at-risk women. Title XV of the Public Health Service Act, Section 1509, originally authorized the Secretary of the Department of Health and Human Services to establish up to three WISEWOMAN demonstration projects for this purpose. Through Congressional appropriations language, the CDC WISEWOMAN program is now allowed to fund up to 15 projects. Currently, WISEWOMAN funds 15 projects, which at full implementation are expected to screen approximately 30,000 women annually for cardiovascular disease risk factors. The program targets women already participating in the National Breast and Cervical Cancer Early Detection Program (NBCCEDP) and provides screening for select cardiovascular disease risk factors (including elevated cholesterol, hypertension and abnormal blood glucose levels), lifestyle interventions, and medical referrals as required in an effort to improve cardiovascular health among participants.

The CDC proposes to collect and analyze baseline and follow-up data (12 months post enrollment) from the 15 funded projects. These data, called the minimum data elements (MDE's), include demographic and risk factor information about the women served in each of the funded projects and information concerning the number and type of intervention sessions attended. Funded projects will compile the data from their existing databases and report the MDE's to CDC in April and October of each year. The MDE provides an assessment of how effective WISEWOMAN is at reducing the burden of cardiovascular disease risk factors among participants. All information collected as part of the WISEWOMAN evaluation will be used to assess the cost-effectiveness and the impact WISEWOMAN has on reducing cardiovascular disease risk factors. The evaluation will demonstrate how WISEWOMAN can obtain more complete health data on vulnerable populations, promote public education of disease incidence and risk-factors, improve the availability of screening and diagnostic services for under-served women, ensure the quality of services provided to women and develop strategies for improved interventions.

The CDC also proposes to collect programmatic data for all WISEWOMAN programs. Programmatic data includes information related to grantee management, public education and outreach professional education service delivery, cost, and an assessment of how well each program is meeting their stated objectives.

All required data will be submitted electronically to RTI International, the contractor that is conducting the WISEWOMAN evaluation. MDE and cost data will be submitted to RTI twice a year. Because certain demographic data has already been collected as part of NBCCEDP, the additional burden on grantees will be modest. There is no cost to the respondents other than their time.

Estimated Annualized Burden Hours:

Report | Number of respondents | Responses per respondent | Average burden per response (in hours) | Total burden (hours)
Screening MDE Report | 15 | 2 | 16 | 480
Intervention MDE Report | 15 | 2 | 8 | 240
Cost Report | 15 | 2 | 16 | 480
Quarterly Report | 15 | 4 | 16 | 960
Total |  |  |  | 2,160

Dated: September 21, 2006.
Joan F. Karr,
Acting Reports Clearance Officer, Centers for Disease Control and Prevention.

[FR Doc. E6-16048 Filed 9-28-06; 8:45 am]

BILLING CODE 4163-18-P